SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1-31, 2018.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 806.22(f) for the time period specified above:

Approvals By Rule Issued Under 18 CFR 806.22(f)

1. Inflection Energy (PA), LLC; Pad ID: Hillegas Well Pad, ABR-201308017.R1; Upper Fairfield Township, Lycoming County, Pa.; Consumptive Use of Up to 4.0000 mgd; Approval Date: October 11, 2018.

2. Inflection Energy (PA), LLC; Pad ID: Bennett Well Pad, ABR-201308015.R1; Eldred Township, Lycoming County, Pa.; Consumptive Use of Up to 4.0000 mgd; Approval Date: October 19, 2018.

3. Cabot Oil & Gas Corporation; Pad ID: PavelskiJ Pad 1, ABR-201810001; Gibson Township, Susquehanna County, Pa.; Consumptive Use of Up to 5.0000 mgd; Approval Date: October 19, 2018.

4. Repsol Oil & Gas USA, LLC ; Pad ID: DCNR 594 (02 200), ABR-201810002; Liberty Township, Tioga County, Pa.; Consumptive Use of Up to 6.0000 mgd; Approval Date: October 22, 2018.

5. Chief Oil & Gas LLC, Pad ID: HEMLOCK RIDGE ESTATES UNIT PAD; ABR-201810003; McNett Township, Lycoming County, Pa.; Consumptive Use of Up to 2.5000 mgd; Approval Date: October 24, 2018.

6. ARD Operating, LLC; Pad ID: Lycoming H&FC Pad F; ABR-201309015.R1; Cogan House Township, Lycoming County, Pa.; Consumptive Use of Up to 4.0000 mgd; Approval Date: October 26, 2018.

Authority: Pub. L. 91-575, 84 Stat. 1509 et seq., 18 CFR parts 806, 807, and 808.

Dated: November 14, 2018.
Stephanie L. Richardson,
Secretary to the Commission.

[FR Doc. 2018-25199 Filed 11-16-18; 8:45 am]

BILLING CODE 7040-01-P